ENVIRONMENTAL PROTECTION AGENCY

[ER-FRL-9043-8]

Environmental Impact Statements; Notice of Availability

Responsible Agency: Office of Federal Activities, General Information 202-564-5632 or https://www.epa.gov/nepa/.

Weekly receipt of Environmental Impact Statements

Filed 03/04/2019 Through 03/08/2019

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20190023, Final, OSM, NM, San Juan Mine Deep Lease Extension Mining Plan Modification, Review Period Ends: 04/15/2019, Contact: Gretchen Pinkham 303-293-5088

EIS No. 20190024, Final, BR, WA, Kachess Drought Relief Pumping Plant and Keechelus Reservoir-to-Kachess Reservoir Conveyance Projects Final Environmental Impact Statement, Kittitas and Yakima Counties, Washington, Review Period Ends: 04/15/2019, Contact: Ms. Candace McKinley 509-573-8020

EIS No. 20190025, Draft, USFS, NM, South Sacramento Restoration Project, Comment Period Ends: 04/29/2019, Contact: Peggy Luensmann 575-434-7200

EIS No. 20190026, Final, FHWA, ND, U.S. Highway 85—I-94 Interchange to Watford City Bypass, Contact: Kevin Brodie 701-221-9467 Under 23 U.S.C. 139(n)(2), FHWA has issued a single document that consists of a final environmental impact statement and record of decision. Therefore, the 30-day wait/review period under NEPA does not apply to this action.

EIS No. 20190027, Final, USFWS, CA, South Farallon Islands Invasive House Mouse Eradication Project; Farallon Islands National Wildlife Refuge, California, Review Period Ends: 04/15/2019, Contact: Gerry McChesney 510-792-0222, ext. 222

EIS No. 20190028, Final, USFS, ID, Boise & Sawtooth Forest-wide Invasive Plant Species Treatments, Review Period Ends: 04/29/2019, Contact: Michael Haney 208-423-7530

EIS No. 20190029, Draft, GSA, AZ, Expansion and Modernization of the San Luis I Land Port of Entry, Comment Period Ends: 04/29/2019, Contact: Osmahn Kadri 415-522-3617

EIS No. 20190030, Draft, BLM, AK, Bering Sea—Western Interior Resource Management Plan and Environmental Impact Statement, Comment Period Ends: 06/13/2019, Contact: Jorjena Barringer 907-267-1246

EIS No. 20190031, Final Supplement, OSM, CO, ADOPTION—Federal Coal Lease Modifications COC-1362 and COC-67232, Contact: Gretchen Pinkham 303-293-5088 The Office of Surface Mining (OSM) has adopted the U.S. Forest Service's Final Supplemental EIS No. 20170173, filed 09/01/2017 with the Environmental Protection Agency. The OSM was a cooperating agency on this project. Therefore, recirculation of the document is not necessary under Section 1506.3(c) of the CEQ regulations.

EIS No. 20190032, Draft, BLM, NV, Burning Man Event Special Recreation Permit Draft Environmental Impact Statement, Comment Period Ends: 04/29/2019, Contact: Mark Hall 775-623-1529

Dated: March 11, 2019.
Robert Tomiak,
Director, Office of Federal Activities.

[FR Doc. 2019-04767 Filed 3-14-19; 8:45 am]

BILLING CODE 6560-50-P